NUCLEAR REGULATORY COMMISSION

658th Meeting of the Advisory Committee on Reactor Safeguards (ACRS)

In accordance with the purposes of Sections 29 and 182b of the Atomic Energy Act (42 U.S.C. 2039, 2232b), the Advisory Committee on Reactor Safeguards (ACRS) will hold meetings on November 1-3, 2018, Three White Flint North, 11601 Landsdown Street, North Bethesda, MD 20852.

Thursday, November 1, 2018, Conference Room 1C3 & 1C5, Three White Flint North, 11601 Landsdown Street, North Bethesda, MD 20852

8:30 a.m.-8:35 a.m.: Opening Remarks by the ACRS Chairman (Open)—The ACRS Chairman will make opening remarks regarding the conduct of the meeting.

8:35 a.m.-10:00 a.m.: Waterford Steam Electric Station, Unit 3 License Renewal Application (Open)—The Committee will have briefings by and discussion with representatives of the NRC staff and Entergy regarding the safety evaluation associated with the subject license renewal application.

10:45 a.m.-12:45 p.m.: River Bend Nuclear Generating Station, Unit 1 License Renewal Application (Open)—The Committee will have briefings by and discussion with representatives of the NRC staff and Entergy regarding the safety evaluation associated with the subject license renewal application.

1:45 p.m.-2:45 p.m.: Preparation for Meeting with Commission (Open)—The Committee will prepare for the upcoming meeting with the Commission in December.

3:00 p.m.-6:00 p.m.: Preparation of ACRS Reports (Open)—The Committee will continue its discussion of proposed ACRS reports.

Friday, November 2, 2018, Conference Room 1C3 & 1C5, Three White Flint North, 11601 Landsdown Street, North Bethesda, MD 20852

8:30 a.m.-10:00 a.m.: Future ACRS Activities/Report of the Planning and Procedures Subcommittee and Reconciliation of ACRS Comments and Recommendations (Open/Closed)—The Committee will hear discussion of the recommendations of the Planning and Procedures Subcommittee regarding items proposed for consideration by the Full Committee during future ACRS meetings. [Note: A portion of this meeting may be closed pursuant to 5 U.S.C. 552b(c)(2) and (6) to discuss organizational and personnel matters that relate solely to internal personnel rules and practices of the ACRS, and information the release of which would constitute a clearly unwarranted invasion of personal privacy].

10:15 a.m.-12:00 p.m.: Preparation of ACRS Reports (Open)—The Committee will continue its discussion of proposed ACRS reports.

1:00 p.m.-6:00 p.m.: Preparation of ACRS Reports (Open)—The Committee will continue its discussion of proposed ACRS reports and retreat items.

Saturday, November 3, 2018, Conference Room 1C3 & 1C5, Three White Flint North, 11601 Landsdown Street, North Bethesda, MD 20852

8:30 p.m.-12:00 p.m.: Preparation of ACRS Reports (Open)—The Committee will continue its discussion of proposed ACRS reports and retreat items.

Procedures for the conduct of and participation in ACRS meetings were published in the Federal Register on October 4, 2017 (82 FR 46312). In accordance with those procedures, oral or written views may be presented by members of the public, including representatives of the nuclear industry. Persons desiring to make oral statements should notify Quynh Nguyen, Cognizant ACRS Staff (Telephone: 301-415-5844, Email: Quynh.Nguyen@nrc.gov), 5 days before the meeting, if possible, so that appropriate arrangements can be made to allow necessary time during the meeting for such statements. In view of the possibility that the schedule for ACRS meetings may be adjusted by the Chairman as necessary to facilitate the conduct of the meeting, persons planning to attend should check with the Cognizant ACRS staff if such rescheduling would result in major inconvenience. The bridgeline number for the meeting is 866-822-3032, passcode 8272423#.

Thirty-five hard copies of each presentation or handout should be provided 30 minutes before the meeting. In addition, one electronic copy of each presentation should be emailed to the Cognizant ACRS Staff one day before meeting. If an electronic copy cannot be provided within this timeframe, presenters should provide the Cognizant ACRS Staff with a CD containing each presentation at least 30 minutes before the meeting.

In accordance with Subsection 10(d) of Public Law 92-463 and 5 U.S.C. 552b(c), certain portions of this meeting may be closed, as specifically noted above. Use of still, motion picture, and television cameras during the meeting may be limited to selected portions of the meeting as determined by the Chairman. Electronic recordings will be permitted only during the open portions of the meeting.

ACRS meeting agendas, meeting transcripts, and letter reports are available through the NRC Public Document Room at pdr.resource@nrc.gov, or by calling the PDR at 1-800-397-4209, or from the Publicly Available Records System (PARS) component of NRC's document system (ADAMS) which is accessible from the NRC website at http://www.nrc.gov/reading-rm/adams.html or http://www.nrc.gov/reading-rm/doc-collections/#ACRS/.

Video teleconferencing service is available for observing open sessions of ACRS meetings. Those wishing to use this service should contact Mr. Theron Brown, ACRS Audio Visual Technician (301-415-6702), between 7:30 a.m. and 3:45 p.m. (ET), at least 10 days before the meeting to ensure the availability of this service. Individuals or organizations requesting this service will be responsible for telephone line charges and for providing the equipment and facilities that they use to establish the video teleconferencing link. The availability of video teleconferencing services is not guaranteed.

Note: This notice is late due to the cancellation of the New Instrumentation & Controls Review Guidance for Future Reactor Designs meeting which was initially on this schedule for Thursday, November 1, 2018 at 1:45 p.m.

Dated: October 17, 2018.
Russell E. Chazell,
Federal Advisory Committee Management Officer, Office of the Secretary.

[FR Doc. 2018-23043 Filed 10-22-18; 8:45 am]

BILLING CODE 7590-01-P